DEPARTMENT OF ENERGY

Federal Energy Regulatory Commission

[Docket No. PF14-23-000]

Columbia Gas Transmission, LLC; Notice of Intent To Prepare an Environmental Impact Statement for the Planned Leach Xpress Project, Request for Comments on Environmental Issues, and Notice of Public Scoping Meetings

The staff of the Federal Energy Regulatory Commission (FERC or Commission) will prepare an environmental impact statement (EIS) that will discuss the environmental impacts of the Leach XPress Project involving construction and operation of facilities by Columbia Gas Transmission, LLC (Columbia Gas) in Marshall and Wayne Counties, West Virginia and Fairfield, Vinton, Lawrence, Noble, Jackson and Hocking Counties, Ohio. The Commission will use this EIS in its decision-making process to determine whether the project is in the public convenience and necessity.

This notice announces the opening of the scoping process the Commission will use to gather input from the public and interested agencies on the project. Your input will help the Commission staff determine what issues they need to evaluate in the EIS. Please note that the scoping period will close on February 12, 2015. However, this is not your only public input opportunity; please refer to the Review Process flow chart in appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

You may submit comments in written form or verbally. Further details on how to submit written comments are in the Public Participation section of this notice. In lieu of or in addition to sending written comments, the Commission invites you to attend the public scoping meetings scheduled as follows:

Date and time | Meeting Location
Tuesday, January 27, 2015, 6:30 p.m. EST | Grand Vue Park (Banquet Hall), 250 Trail Drive, Moundsville, WV 26041.
Wednesday, January 28, 2015, 6:30 p.m. EST | Noble County Community Center, Noble County Fairgrounds, (Fairground Road), Caldwell, OH 43724.
Thursday, January 29, 2015, 6:30 p.m. EST | Oak Hill Elementary School, 401 East Evans Street, Oak Hill, OH 45656.
Tuesday, February 3, 2015, 6:30 p.m. EST | Lee's Banquet Haus, 580 Radio Lane, Logan, OH 43138.
Wednesday, February 4, 2015, 6:30 p.m. EST | Huntington High School, 1 Highlander Way, Huntington, WV 25701.

This notice is being sent to the Commission's current environmental mailing list for this project. State and local government representatives should notify their constituents of this planned project and encourage them to comment on their areas of concern.

The purpose of these scoping meetings is to provide the public an opportunity to learn more about the Commission's environmental review process, and to verbally comment on the Project. Each scoping meeting will start at 6:30 p.m. and representatives from Columbia Gas will be present one hour prior to the start of each scoping meeting to answer questions about the Project. Affected landowners and other interested parties are encouraged to attend the scoping meetings and to give their comments on the issues they believe should be addressed in the EIS. A transcript of each meeting will be added to the Commission's administrative record to ensure that your comments are accurately recorded.

If you are a landowner receiving this notice, a pipeline company representative may contact you about the acquisition of an easement to construct, operate, and maintain the planned facilities. The company would seek to negotiate a mutually acceptable agreement. However, if the Commission approves the project, that approval conveys with it the right of eminent domain. Therefore, if easement negotiations fail to produce an agreement, the pipeline company could initiate condemnation proceedings where compensation would be determined in accordance with state law.

The “For Citizens” section of the FERC Web site (www.ferc.gov) provides more information about the FERC and the environmental review process. This section also includes information about getting involved in FERC jurisdictional projects, and a citizens' guide entitled “An Interstate Natural Gas Facility On My Land? What Do I Need to Know?” This guide addresses a number of frequently asked questions, including the use of eminent domain and how to participate in the Commission's proceedings.

Summary of the Planned Project

Columbia Gas plans to construct approximately 161 miles of new natural gas pipeline in West Virginia and Ohio; two new compressor stations in Ohio and one new compressor station in West Virginia; and four new regulator stations in Ohio; and modify two existing compressor stations in West Virginia and Ohio as well as one existing regulator station in Ohio. The Leach XPress Project would provide about 1.5 million dekatherms of natural gas per day of firm transportation service to natural gas consumers served by the Columbia Gas and Columbia Gulf pipeline systems. According to Columbia Gas, its project would provide shippers outlets from constrained supply basins and access to higher value markets.

The Leach XPress Project would consist of the following facilities:

• LEX Pipeline—130 miles of new 36-inch-diameter pipeline in Marshall County, West Virginia and Fairfield, Hocking, Monroe, Morgan, Muskingum, Noble, and Perry Counties, Ohio;

• R-801 Loop—27 miles of new 36-inch-diameter pipeline loop in Fairfield, Hocking, and Vinton Counties, Ohio; ²

² A pipeline loop is a segment of pipe constructed parallel to an existing pipeline to increase capacity.

• BM-111 Loop—2.9 miles of new 36-inch-diameter pipeline loop from Lawrence County, Ohio to Wayne County, West Virginia;

• LEX1 Pipeline—0.6 miles of new 30-inch-diameter pipeline in Fairfield County, Ohio;

• three new compressor stations, designated as the Lone Oak, Summerfield, and Oak Hill Compressor Stations to be located in Marshall County, West Virginia, and Noble and Jackson Counties, Ohio, respectively;

• four new regulator stations in Hocking and Vinton Counties, Ohio, respectively;

• modifications to the existing Ceredo and Crawford Compressor Stations in Wayne County, West Virginia and Fairfield County, Ohio, respectively;

• modifications to the existing RS-1286 regular station in Vinton County, Ohio; and

• abandonment in-place of 28 miles of the 20-inch-diameter R-501 Pipeline in Fairfield, Hocking, and Vinton Counties, Ohio.

The general location of the project facilities is shown in appendix 2.

Land Requirements for Construction

Construction of the planned facilities would disturb about 2,534 acres of land for the aboveground facilities and the pipelines. Following construction, Columbia Gas would maintain about 1,008 acres for permanent operation of the project's aboveground facilities and permanent pipeline easements; the remaining acreage would be restored and revert to former uses. About 48 percent of the planned pipeline routes parallels existing pipeline, utility, or road rights-of-way.

The EIS Process

The National Environmental Policy Act (NEPA) requires the Commission to take into account the environmental impacts that could result from an action whenever it considers the issuance of a Certificate of Public Convenience and Necessity. NEPA also requires us ³ to discover and address concerns the public may have about proposals. This process is referred to as scoping. The main goal of the scoping process is to focus the analysis in the EIS on the important environmental issues. By this notice, the Commission requests public comments on the scope of the issues to address in the EIS. We will consider all filed comments during the preparation of the EIS.

³ “We,” “us,” and “our” refer to the environmental staff of the Commission's Office of Energy Projects.

In the EIS we will discuss impacts that could occur as a result of the construction and operation of the planned project under these general headings:

• Geology

• soils;

• water resources, including surface water and groundwater

• wetlands;

• vegetation and wildlife;

• fisheries and aquatic resources;

• threatened, endangered, and other special status species;

• land use, recreation, special interest areas, and visual resources;

• socioeconomics;

• cultural resources;

• air quality and noise;

• public safety and reliability; and

• cumulative environmental impacts.

We will also evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we participated in public Open Houses meetings sponsored by Columbia Gas in the project area in November 2014 to explain the environmental review process to interested stakeholder. We have also begun to contact some federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section beginning on page 7.

With this notice, we are asking agencies with jurisdiction by law and/or special expertise with respect to the environmental issues related to this project to formally cooperate with us in the preparation of the EIS.⁴ Agencies that would like to request cooperating agency status should follow the instructions for filing comments provided under the Public Participation section of this notice. Currently, the Ohio Environmental Protection Agency has expressed its intention to participate as a cooperating agency in the preparation of the EIS to satisfy its NEPA responsibilities related to this project.

⁴ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the applicable State Historic Preservation Office(s), and to solicit their views and those of other government agencies, interested Indian tribes, and the public on the project's potential effects on historic properties.⁵ We will define the project-specific Area of Potential Effects (APE) in consultation with the SHPO(s) as the project develops. On natural gas facility projects, the APE at a minimum encompasses all areas subject to ground disturbance (examples include construction right-of-way, contractor/pipe storage yards, compressor stations, and access roads). Our EIS for this project will document our findings on the impacts on historic properties and summarize the status of consultations under section 106.

⁵ The Advisory Council on Historic Preservation regulations are at Title 36, Code of Federal Regulations, Part 800. Those regulations define historic properties as any prehistoric or historic district, site, building, structure, or object included in or eligible for inclusion in the National Register of Historic Places.

Currently Identified Environmental Issues

We have already identified several issues that we think deserve attention based on a preliminary review of the planned facilities and the environmental information provided by Columbia Gas. This preliminary list of issues may change based on your comments and our analysis. Issues identified include:

• Geology—effects as a result of blasting to remove existing surface and subsurface bedrock during Project construction;

• soils—effects on soil stability during and after project construction;

• land use—effects on residential areas and agricultural lands during construction and operation of Project facilities including public safety;

• water resources—effects on wetlands and waterbodies;

• Mississippi River crossing in two locations, as well as Muskingum River;

• biological resources—effect on threatened and endangered species occurring within or adjacent to the Project right-of-way;

• cultural—effects on archeological sites and historic resources;

• socioeconomic and transportation—effects of increased workforce and impacts to local population; and

• air quality and noise—effect on local air quality and noise environment from construction and operation and maintenance of Project facilities.

Public Participation

You can make a difference by providing us with your specific comments or concerns about the project. Your comments should focus on the potential environmental effects, reasonable alternatives, and measures to avoid or lessen environmental impacts. The more specific your comments, the more useful they will be. To ensure that your comments are timely and properly recorded, please send your comments so that the Commission receives them in Washington, DC on or before February 12, 2015.

For your convenience, there are three methods you can use to submit your comments to the Commission. In all instances, please reference the project docket number (PF14-23-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

Copies of the completed draft EIS will be sent to the environmental mailing list for public review and comment. If you would prefer to receive a paper copy of the document instead of the CD version or would like to remove your name from the mailing list, please return the attached Information Request (appendix 2).

Becoming an Intervenor

Once Columbia Gas files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF14-23). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp. Public meetings or site visits will be posted on the Commission's calendar located at www.ferc.gov/EventCalendar/EventsList.aspx along with other related information.

Finally, Columbia Gas has established a toll-free phone number (1-888-499-3450) and an email support address (zdaniels@nisource.com) so that parties can contact it directly with questions about the Project. Columbia Gas has also established a Project Web site (https://www.columbiapipelinegroup.com/current-projects/leach-xpress-project) where additional information on the Project is available.

Dated: January 13, 2015.
Kimberly D. Bose,
Secretary.

[FR Doc. 2015-00733 Filed 1-16-15; 8:45 am]

BILLING CODE 6717-01-P